ENVIRONMENTAL PROTECTION AGENCY

40 CFR Parts 52 and 81

[NM-43-1-7600b; FRL-7556-8]

Approval and Promulgation of Implementation Plans; New Mexico; Redesignation of Grant County to Attainment for Sulfur Dioxide

AGENCY: Environmental Protection Agency (EPA).

ACTION: Proposed rule.

SUMMARY: The EPA is proposing action on a request to redesignate Grant County, New Mexico from nonattainment area to attainment for the sulfur dioxide (SO2) National Ambient Air Quality Standards (NAAQS). In conjunction with this action, EPA is also proposing to approve the maintenance plan, and its associated contingency measures plan for the Grant County nonattainment area, which were submitted to ensure that the attainment of SO2 NAAQS will continue to be maintained. The redesignation request and maintenance and contingency measures plans were submitted as a revision to the New Mexico State Implementation Plan (SIP) by the New Mexico Environment Department (NMED) on February 21, 2003. We are proposing to approve these revisions in accordance with the requirements of the Federal Clean Air Act.

DATES: Written comments must be received by October 20, 2003.

ADDRESSES: Written comments should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Environmental Protection Agency, Region 6, Air Planning Section (6PD-L), 1445 Ross Avenue, Dallas, Texas 75202-2733.

New Mexico Environment Depart, Air Quality Bureau, 2044 Galisteo Street, Santa Fe, New Mexico 87505.

FOR FURTHER INFORMATION CONTACT: Carrie Paige, Air State and Tribal Operations Section (6PD-S), EPA Region 6, 1445 Ross Avenue, Dallas, Texas 75202-2733, telephone (214) 665-6521, paige.carrie@epa.gov, or Alan Shar shar.alan@epa.gov.

SUPPLEMENTARY INFORMATION: In the “Rules and Regulations” section of this Federal Register, EPA is approving the State's SIP revision as a direct final rule without prior proposal because the EPA views this as a noncontroversial revision and anticipates no adverse comment. The EPA has explained its reasons for this approval in the preamble to the direct final rule. If EPA receives no relevant adverse comments, the EPA will not take further action on this proposed rule. If EPA receives relevant adverse comment, EPA will withdraw the direct final rule and it will not take effect. The EPA will address all public comments in a subsequent final rule based on this proposed rule. The EPA will not institute a second comment period on this action. Any parties interested in commenting must do so at this time. Electronic comments should be sent either to Diggs.Thomas@epa.gov or to http://www.regulations.gov, which is an alternative method for submitting electronic comments to EPA. To submit comments, please follow the detailed instructions described in our direct final rulemaking document published in the “Rules and Regulations” section of this Federal Register. Our Technical Support Document for this rule revision contains more information about this action.

This document concerns Attainment, Environmental protection, Intergovernmental relations, Redesignation, Reporting and recordkeeping requirements, Sulfur oxides. For further information, please see the information provided in the direct final action that is located in the “Rules and Regulations” section of this Federal Register publication.

Authority: 42 U.S.C. 7401 et seq.

Dated: September 2, 2003.
Lawrence Starfield,
Acting Regional Administrator, Region 6.

[FR Doc. 03-23748 Filed 9-17-03; 8:45 am]

BILLING CODE 6560-50-P